DEPARTMENT OF THE INTERIOR

Bureau of Indian Affairs

Determination of Trust Land Acquisition

AGENCY: Bureau of Indian Affairs, Interior.

ACTION: Notice.

SUMMARY: The Bureau of Indian Affairs (BIA) is publishing this notice to provide notification of the determination that public Law 98-602 land settlement claim funds were used to purchase trust land in Kansas City, Kansas for the Wyandotte Tribe of Oklahoma (Tribe).

FOR FURTHER INFORMATION CONTACT: George T. Skibine, Director, Office of Indian Gaming Management, Bureau of Indian Affairs 1849 C Street NW, MS-2070 MIB, Washington, DC 20240; by telephone at (202) 219-4066 (this is not a toll-free number); or by telefax at (202) 273-3153.

SUPPLEMENTARY INFORMATION: This notice is published in exercise of authority delegated to the Assistant Secretary—Indian Affairs by 209 DM 8 and in accordance with 5 U.S.C. 2, 9, 2710.

Background

The statutory authority for the Wynadotte Tribe's acquisition of the Kansas City tract (Shriner's Building) is Public Law 98-602, 98 Stat. 3149, enacted on October 30, 1984. It expressly provides that “$100,000 of such funds shall be used for the purchase of real property which shall be held in trust by the Secretary for the Tribe.” Public Law 98-602 § 105(b)(1). When section 602 funds were received by Wyandotte Tribe of Oklahoma, the Tribe purchased $100,000 of mortgage obligation bonds on May 14, 1986. Interest and bond dividend earnings were retained in an existing cash account. As bonds were redeemed and additional bonds purchased, the funds flowed through the cash account, which contained other tribal monies.

Beginning in 1989 the Tribe held an investment account which paid some dividends and interests directly to the Tribe's main accounts. In December 1991, the Tribe eliminated one account and combined the section 602 funds (principal, cash, dividends, and interest) into its main investment account.

At the time of the July 12, 1996 disbursement of $180,000 for the Shriner's Building purchase, the remaining accumulated amount of section 602 funds and the dividends and interest of those funds, was $212,169.65.

An analysis of the accumulation of interest and dividends on section 602 funds was completed by KPMG, L.L.P., a public accounting firm. The analysis procedures included tracing balances from bank account statements, testing the appropriateness of the allocation of interest and dividends to section 602 funds and other funds deposited in the main account, tracing the use of the section 602 funds to purchases and sell securities, and the mathematical accuracy of the analysis. KMPG “found that the computations were appropriate and that the ending value that resulted from the initial $100,000 investment was $121,170 at the time of the land purchase.” The analysis and findings were presented to the Tribe in a November 26, 2001 letter from KPMG.

Determination

The Secretary of the Interior has determined that the funds used to purchase the Shriner's Property in Kansas City, Kansas were from the section 602 settlement of specific land claims. The Secretary affirms that trust status of the subject lands.

Dated: February 22, 2002.
Neal A. McCaleb,
Assistant Secretary—Indian Affairs.

[FR Doc. 02-5760 Filed 3-8-02; 8:45 am]

BILLING CODE 4310-4N-M